NUCLEAR REGULATORY COMMISSION

[NRC-2012-0055]

Interim Staff Guidance on Changes to the Generic Aging Lessons Learned (GALL) Report Revision 2 AMP XI.M41, “Buried and Underground Piping and Tanks”

AGENCY: Nuclear Regulatory Commission.

ACTION: Interim staff guidance; issuance.

SUMMARY: The U.S. Nuclear Regulatory Commission (NRC) is issuing the final License Renewal Interim Staff Guidance (LR-ISG), LR-ISG-2011-03, “Changes to GALL Report Revision 2 Aging Management Program (AMP) XI.M41, `Buried and Underground Piping and Tanks'.” This LR-ISG provides changes to the recommendations in GALL Report Revision 2 AMP XI.M41 based on the staff's review of several license renewal applications' buried and underground piping and tanks AMPs and stakeholder input. The LR-ISG revises NRC staff recommended AMPs in NUREG-1801, Revision 2, “Generic Aging Lessons Learned (GALL) Report,” and the NRC staff's aging management review procedure and acceptance criteria contained in NUREG-1800, Revision 2, “Standard Review Plan for Review of License Renewal Applications for Nuclear Power Plants” (SRP-LR). The NRC published Revision 2 of the SRP-LR and GALL Report in December 2010, and they are available in the NRC's Agencywide Documents Access and Management System (ADAMS) under Accession Nos. ML103490041 and ML103490036, respectively.

ADDRESSES: Please refer to Docket ID NRC-2012-0055 when contacting the NRC about the availability of information regarding this document. You may access information related to this document, which the NRC possesses and are publicly available, using any of the following methods:

• Federal Rulemaking Web site: Go to http://www.regulations.gov and search for Docket ID NRC-2012-0055. Address questions about NRC dockets to Carol Gallagher; telephone: 301-492-3668; email: Carol.Gallagher@nrc.gov.

• NRC's Agencywide Documents Access and Management System (ADAMS): You may access publicly available documents online in the NRC Library at http://www.nrc.gov/reading-rm/adams.html. To begin the search, select “ADAMS Public Documents” and then select “Begin Web-based ADAMS Search.” For problems with ADAMS, please contact the NRC's Public Document Room (PDR) reference staff at 1-800-397-4209, 301-415-4737, or by email to pdr.resource@nrc.gov. The ADAMS accession number for each document referenced in this document (if that document is available in ADAMS) is provided the first time that a document is referenced. The LR-ISG-2011-03 is available under ADAMS Accession No. ML12138A296.

• NRC's PDR: You may examine and purchase copies of public documents at the NRC's PDR, Room O1-F21, One White Flint North, 11555 Rockville Pike, Rockville, Maryland 20852.

• NRC's Interim Staff Guidance Web Site: LR-ISG documents are also available online under the “License Renewal” heading at http://www.nrc.gov/reading-rm/doc-collections/#int.

FOR FURTHER INFORMATION CONTACT: Mr. William Holston, Division of License Renewal, Office of Nuclear Reactor Regulation, U.S. Nuclear Regulatory Commission, Washington, DC 20555-0001; telephone: 301-415-8573, or email: William.Holston@nrc.gov.

SUPPLEMENTARY INFORMATION:

Background Information

The NRC issues LR-ISG to communicate insights and lessons learned and to address emergent issues not covered in license renewal guidance documents. In this way, the NRC staff and stakeholders may use the guidance in an LR-ISG document until it is incorporated into a formal license renewal guidance document revision. The NRC staff issues LR-ISG in accordance with the LR-ISG Process, Revision 2 (ADAMS Accession No. ML100920158), for which a notice of availability was published in the Federal Register on June 22, 2010 (75 FR 35510).

The NRC staff developed LR-ISG-2011-03 to (a) Include inspection recommendations for plants that will not utilize a cathodic protection system in the period of extended operation, (b) remove the recommendation to volumetrically inspect underground piping to detect internal corrosion since other AMPs such as XI.M 38 manage the aging of internal surfaces of buried and underground piping and tanks, (c) base further increased inspection sample sizes on an analysis of extent of cause and extent of condition when adverse conditions are detected in the initial and subsequent doubled sample size rather than continuing to double the sample size, (d) add a recommendation that where damage to the coating is significant and the damage was caused by non-conforming backfill, an extent of condition evaluation should be conducted to ensure that the as-left condition of backfill in the vicinity of observed damage will not lead to further degradation, (e) add specific acceptance criteria for cathodic protection surveys, (f) add the specific preventive and mitigative actions utilized by the AMP in the Final Safety Analysis Report Supplement description of the program as contained in the SRP-LR, (g) make miscellaneous and editorial changes, and (h) correct an internal conflict between AMP XI.M41 and AMP XI.M36, “External Surfaces Monitoring of Mechanical Components.”

On March 9, 2012, (77 FR 14446) the NRC requested public comments on draft LR-ISG-2011-03 (ADAMS Accession No. ML11244A058). By letter dated March 27, 2012, (ADAMS Accession No. ML12089A021), the Nuclear Energy Institute (NEI) requested a 14-day extension to the comment period. The NRC staff granted the NEI's requested as noticed on April 11, 2012 (77 FR 21813) and given that the comment period had closed on April 9, 2012, the comment period was reopened until April 20, 2012.

The NRC received external comments from Mr. Jon Cavello on April 1, 2012 (ADAMS Accession No. ML12094A367), Mears Group on April 9, 2012 (ADAMS Accession No. ML12103A207), Det Norske Veritas (USA) Inc. on April 13, 2012 (ADAMS Accession No. ML12108A049), and NEI on April 20, 2012 (ADAMS Accession No. ML12114A214). No other external comments were submitted. The NRC considered these comments in developing the final LR-ISG. Detailed responses to the comments can be found in Appendix G of the final LR-ISG.

The final LR-ISG-2011-03 is approved for NRC staff and stakeholder use and will be incorporated into NRC's next formal license renewal guidance document revision.

Backfitting and Issue Finality

Issuance of this final LR-ISG does not constitute backfitting as defined in 10 CFR 50.109 (the Backfit Rule) and is not otherwise inconsistent with the issue finality provisions in Part 52, “Licenses, Certifications, and Approvals for Nuclear Power Plants,” of 10 CFR. As discussed in the “Backfitting Discussion” section of final LR-ISG-2011-03, the LR-ISG is directed to holders of operating licenses or combined licenses who are currently in the license renewal process. The LR-ISG is not directed to holders of operating licenses or combined licenses until they apply for license renewal. The LR-ISG is also not directed to licensees who already hold renewed operating or combined licenses.

Dated at Rockville, Maryland, this 26th day of July, 2012.
For the Nuclear Regulatory Commission.
Melanie A. Galloway,
Deputy Director, Division of License Renewal, Office of Nuclear Reactor Regulation.

[FR Doc. 2012-18862 Filed 8-1-12; 8:45 am]

BILLING CODE 7590-01-P